DEPARTMENT OF THE INTERIOR

Bureau of Indian Affairs

Proposed Renewal of Agency Information Collection Activities;

AGENCY: Bureau of Indian Affairs, Interior.

ACTION: Notice.

SUMMARY: In compliance with the Paperwork Reduction Act, this notice announces that the Bureau of Indian Affairs (BIA) is proposing to renew the information collections for OMB Control Number 1076-0114, Application for Admission to Haskell Indian Nations University (HINU) and Southwestern Indian Polytechnic Institute (SIPI); OMB Control Number 1076-0134, Student Transportation Form, Subpart H, 25 CFR 39; and OMB Control Number 1076-0122, Data Elements for Student Enrollment in Bureau-funded Schools. These collections help support the educational efforts for Native American students from elementary through post-secondary levels. These collections help fulfill the trust responsibility of the Secretary of the Department of the Interior. We are requesting comments on these information collections.

DATES: Written comments must be submitted on or before November 10, 2008.

ADDRESSES: You are requested to send any comments to Kevin Skenandore, Acting Director, Bureau of Indian Education, 1849 C Street NW., MS 3610, Washington, DC 20240.

FOR FURTHER INFORMATION CONTACT: Keith Neves, Bureau of Indian Education, Department of the Interior, 1849 C Street NW., MS 3609 MIB, Washington, DC 20240; Telephone 202-208-3601.

SUPPLEMENTARY INFORMATION: This notice is published in exercise of authority delegated to the Assistant Secretary-Indian Affairs under 25 U.S.C. 2 and 9 and 209 DM 8.

I. Abstract

Application for Admission to HINU & SIPI

The BIA is providing the admission forms for Haskell Indian Nations University (HINU) and the Southwestern Indian Polytechnic Institute (SIPI) for review. These admission forms are used in determining program eligibility of American Indian and Alaska Native students for educational services. These forms are utilized pursuant to Blood Quantum Act, Public Law 99-228; the Snyder Act, Chapter 115, Public Law 67-85; and, the Indian Appropriations of the 48th Congress, Chapter 180, page 91, For Support of Schools, July 4, 1884.

Student Transportation Form

The Student Transportation regulations in 25 CFR part 39, subpart H, contain the program eligibility and criteria which govern the allocation of transportation funds. Information collected from the schools will be used to determine the rate per mile. The information collection provides transportation mileage for Bureau-funded schools, which determines the allocation of transportation funds.

Data Elements for Students in Bureau-funded Schools

The information is collected by school registrars to determine the student's eligibility for enrollment in a Bureau-funded school, and if eligible, is shared with appropriate school officials to identify the student's base and supplemental educational and/or residential program needs. The information is compiled into a national database by the Bureau of Indian Education to facilitate budget requests and the allocation of Congressionally appropriated funds.

II. Request for Comments

The Department of the Interior invites comments on:

(a) Whether the collection of information is necessary for the proper performance of the functions of the agency, including whether the information will have practical utility;

(b) The accuracy of the agencies' estimate of the burden (including the hours and cost) of the proposed collection of information, including the validity of the methodology and assumption used;

(c) Ways to enhance the quality, utility, and clarity of the information to be collected; and

(d) Ways to minimize the burden of the collection of information on those who are to respond, including through the use of appropriate automated, electronic, mechanical, or other collection techniques or other forms of information technology.

Burden means the total time, effort, or financial resources expended by persons to generate, maintain, retain, or disclose or provide information to or for a Federal agency. This includes the time needed to review instructions; to develop, acquire, install and utilize technology and systems for the purpose of collecting, validating, and verifying information, processing and maintaining information, and disclosing and providing information, to search data sources, to complete and review the collection of information; and to transmit or otherwise disclose the information.

Comments submitted in response to this notice will be summarized and/or included in the request for OMB approval of this information collection. They also will become a matter of public record. All written comments will be available for public inspection in Room 3612 of the Main Interior Building, 1849 C Street, NW., Washington, DC, from 7:45 a.m. to 4:15 p.m. EST, Monday through Friday, excluding legal holidays. Before including your address, phone number, e-mail address or other personally identifiable information, be advised that your entire comment—including your personally identifiable information—may be made public at any time. While you may request that we withhold your personally identifiable information, we cannot guarantee that we will be able to do so. All comments from representatives of businesses or organizations will be made public in their entirety.

We will not request nor sponsor a collection of information, and you need not respond to such a request, if there is no valid Office of Management and Budget Control Number.

III. Data

Title: Applications for Admission to Haskell Indian Nations University and to Southwestern Indian Polytechnic Institute.

OMB Control Number: 1076-0114.

Type of Review: Renewal.

Description: These eligibility application forms are mandatory in determining a student's eligibility for educational services.

Total Number of Respondents: 2,281.

Total Number of Annual Responses: 3,943.

Total Annual Burden Hours: 30 minutes per application x (number of HINU applications) and 40 minutes per application x (number of SIPI applications) = total burden hours.

Filing fee: $10 per application for HINU; no fee for SIPI.

Title: Student Transportation Form, Subpart H, 25 CFR 39.100-103.

OMB Control Number: 1076-0134.

Type of Review: Renewal.

Description: This annual collection provides pertinent data concerning the schools' bus transportation mileage and related long distance travel mileage to determine funding levels for school transportation.

Total Number of Respondents: 121.

Total Number of Annual Responses: 121.

Total Annual Burden Hours: 6 hours each response = 726 hours.

Title: Data Elements for Student Enrollment in Bureau-funded Schools.

OMB Control Number: 1076-0122.

Type of Review: Renewal.

Description: This annual collection provides data about students that impacts placement, special needs assessment, and funding for individuals and assists schools in developing a plan for the school year.

Total Number of Respondents: 48,000.

Total Number of Annual Responses: 48,000.

Total Annual Burden Hours: 15 minutes for each response = 12,000.

Dated: September 2, 2008.
Sanjeev “Sonny” Bhagowalia,
Chief Information Officer—Indian Affairs.

[FR Doc. E8-20937 Filed 9-9-08; 8:45 am]

BILLING CODE 4310-6W-P